DEPARTMENT OF ENERGY

Federal Energy Regulatory Commission

[Docket No. RP03-33-000]

Texas Eastern Transmission, LP; Notice of Tariff Filing

October 23, 2002.

Take notice that on October 17, 2002, Texas Eastern Transmission, LP (Texas Eastern) tendered for filing as part of its FERC Gas Tariff, Seventh Revised Volume No. 1, the following tariff sheets, to become effective on November 1, 2002:

Original Sheet No. 51C

Original Sheet No. 105

Sheet Nos. 106—125

First Revised Sheet No. 297A

First Revised Sheet No. 297B 4th Rev First Revised Sheet No. 529

Fourth Revised Sheet No. 624

Texas Eastern states that these tariff sheets are being filed to implement an initial incremental maximum recourse rate for service under Rate Schedule MLS-1 on the Fayette Lateral, a new lateral constructed under Texas Eastern's blanket certificate authority. In addition, Texas Eastern and Duke Energy Fayette, LLC have agreed to a negotiated rate for up to 125,000 dekatherms per day of firm transportation service on the Fayette Lateral pursuant to Rate Schedule MLS-1 to a new 620 megawatt electric generating plant being constructed by Duke Energy Fayette, LLC in Fayette County, Pennsylvania, with service commencing November 1, 2002. The tariff sheets filed herewith also establish the negotiated rate with Duke Energy Fayette, LLC and, in accordance with the Commission's Policy Statement on Alternatives to Traditional Cost-of-Service Ratemaking for Natural Gas Pipelines, reflect the essential elements of the negotiated rate contract.

Texas Eastern states that copies of its filing have been mailed to all affected customers and interested state commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-27471 Filed 10-28-02; 8:45 am]

BILLING CODE 6717-01-P